FEDERAL COMMUNICATIONS COMMISSION

47 CFR Part 73

[DA 02-893, MM Docket No. 00-138, RM-9896]

Digital Television Broadcast Service; Boca Raton, FL

AGENCY: Federal Communications Commission.

ACTION: Final rule.

SUMMARY: The Commission, at the request of The School Board of Broward County, Florida, substitutes DTV channel *40 for DTV channel *44 at Boca Raton, Florida. See 65 FR 50951, August 22, 2000. DTV channel *40 can be allotted to Boca Raton in compliance with the principle community coverage requirements of Section 73.625(a) at reference coordinates (25-59-34 N. and 80-10-27 W.) with a power of 1000, HAAT of 310 meters and with a DTV service population of 3989 thousand.

With this action, this proceeding is terminated.

DATES: Effective June 3, 2002.

FOR FURTHER INFORMATION CONTACT: Pam Blumenthal, Media Bureau, (202) 418-1600.

SUPPLEMENTARY INFORMATION: This is a synopsis of the Commission's Report and Order, MM Docket No. 00-138, adopted April 17, 2002, and released April 22, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Florida, is amended by removing DTV channel *44 and adding DTV channel *40 at Boca Raton.

Federal Communications Commission.
Barbara A. Kreisman,
Chief, Video Division, Media Bureau.

[FR Doc. 02-9952 Filed 4-22-02; 8:45 am]

BILLING CODE 6712-01-P